DEPARTMENT OF ENERGY

Federal Energy Regulatory Commission

[Project No. 9543-012]

North Snake Ground Water District, Magic Valley Ground Water District, American Falls-Aberdeen Ground Water District, Bingham Ground Water District and Southwest Irrigation District (Districts); Notice of Application Accepted for Filing, Soliciting Comments, Motions To Intervene, and Protests

Take notice that the following hydroelectric application has been filed with the Commission and is available for public inspection:

a. Type of Proceeding: Surrender of Exemption (Conduit).

b. Project No.: 9543-012.

c. Date Filed: November 25, 2016.

d. Exemptee: North Snake Ground Water District, Magic Valley Ground Water District, American Falls-Aberdeen Ground Water District, Bingham Ground Water District and Southwest Irrigation District (Districts).

e. Name of Project: Rim View Hydroelectric Project.

f. Location: The project is located At Rim View's fish hatchery in Gooding County, Idaho.

g. Filed Pursuant to: 18 CFR 4.95.

h. Exemptee Contact: Randall C. Budge, Joseph G. Ballstaedt, Racine Olson Nye Budge & Bailey, Chartered, 201 E. Center St./P.O. Box 1391, Pocatello, Idaho 83204, Telephone: (208) 232-6101, fax: (208) 232-6109, rcb@racinelaw.net and jgb@racinelaw.net.

i. FERC Contact: Mr. M. Joseph Fayyad, (202) 502-8759, mo.fayyad@ferc.gov.

j. Deadline for filing comments, interventions and protests is 30 days from the issuance date of this notice by the Commission. The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-9543-012.

k. Description of Project Facilities: The project consists of: (1) A penstock intake; (2) a 300-foot-long, 60-inch-diameter, buried steel penstock; (3) an 18-inch-diameter steel pipe connecting the downstream end of the overflow bypass structure to the penstock; and (4) a powerhouse containing one 250-kW generating unit emptying into an existing distribution ditch for fish ponds.

l. Description of Proceeding: The Districts state they want to surrender the conduit exemption because the inoperable project would not be economical to restore and operate. On March 14, 2011, the Districts purchased the project from Rim View LLC, and under the purchase and sale agreement, Rim View LLC continued to operate the hydropower plant until around September 15, 2012. The Districts then shut down the project. The Districts state that on June 16, 2013, the Districts terminated all hydropower purchase and production agreements with Idaho Power Company. Idaho Power Company disconnected the facility from the power grid and removed the interconnection equipment. By early 2014, the hydropower plant was sold for salvage and was removed from the Hatchery premises, including all remaining generators, motors, electrical panels, and other equipment. All that remains of the hydropower plant is its exterior shell, which is secured and now used for storage and maintenance purposes. The Districts are not proposing any further decommissioning work at the site.

m. Locations of the Application: This filing may be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction in the Commission's Public Reference Room located at 888 First Street NE., Room 2A, Washington, DC 20426, or by calling (202) 502-8371.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .212 and .214. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the exemption surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

q. Agency Comments—Federal, state, and local agencies are invited to file comments on the described proceeding. If any agency does not file comments within the time specified for filing comments, it will be presumed to have no comments.

Dated: December 21, 2016.
Nathaniel J. Davis, Sr.,
Deputy Secretary.

[FR Doc. 2016-31346 Filed 12-27-16; 8:45 am]

BILLING CODE 6717-01-P